DEPARTMENT OF HEALTH AND HUMAN SERVICES

National Institutes of Health

Office of Biotechnology Activities, Office of Science Policy, Office of the Director; Notice of Meeting

Pursuant to section 10(d) of the Federal Advisory Committee Act, as amended (5 U.S.C. App.), notice is hereby given of a meeting of the National Science Advisory Board for Biosecurity (NSABB).

The meeting will be closed to the public in accordance with the provisions set forth in section 552b(c)(9)(b), Title 5 U.S.C. as amended. Under authority 42 U.S.C. 217a, Section 222 of the Public Health Service Act, as amended, the Department of Health and Human Services established the NSABB to provide advice, guidance and leadership regarding federal oversight of dual use research, defined as biological research that generates information and technologies that could be misused to pose a biological threat to public health and/or national security.

The meeting will be open to the public via teleconference. Persons planning to participate in this teleconference should refer to the Call-in Information listed on this notice. For information about the open meeting connect to: http://oba.od.nih.gov/biosecurity/biosecurity_meetings.html. Please check this site for updates.

Name of Committee: National Science Advisory Board for Biosecurity.

Date: December 15, 2011.

Closed: December 15, 2011, 10 a.m. to 11:30 a.m.

Agenda: To review confidential information.

Place: National Institutes of Health, 6705 Rockledge Drive, Bethesda, Maryland 20892, (Telephone Conference Call).

Open: December 15, 2011, 12 p.m. to 1:30 p.m.

Agenda: Presentations and discussions regarding: (1) Review of proposed NSABB Codes of Conduct Working Group Draft Report: “Enhancing Responsible Science Considerations for the Development and Dissemination of Codes of Conduct for Dual Use Research;” (2) planning for future NSABB meetings; and (3) other business of the Board.

Place: National Institutes of Health, 6705 Rockledge Drive, Bethesda, Maryland 20892 (Telephone Conference Call).

Call-in Information: Toll-Free Number: 1-(888) 989-9721 Participant Passcode: 7857009.

Contact Person: Ronna Hill, NSABB Program Assistant, NIH Office of Biotechnology Activities, 6705 Rockledge Drive, Suite 750, Bethesda, Maryland 20892, (301) 496-9838, hillro@od.nih.gov.

This notice is being published less than 15 days before it is held because NIH was asked by the Department of Health and Human Services to convene the NSABB as soon as possible due to the time-sensitive nature of the matter for review.

Any member of the public interested in presenting oral comments relevant to the mission of the NSABB at the open meeting should notify the Contact Person listed on this notice. Interested individuals and representatives of an organization may submit a letter of intent, a brief description of the organization represented, and a short description of the oral presentation. Only one representative of an organization may be allowed to present oral comments. Both printed and electronic copies are requested for the record. In addition, any interested person may file written comments relevant to the mission of the NSABB. All written comments should be sent via email to the Contact Person listed on this notice. The written comments should include the name, address, telephone number and, when applicable, the business or professional affiliation of the interested person.

Dated: December 6, 2011.
Jennifer Spaeth,
Director, Office of Federal Advisory Committee Policy.

[FR Doc. 2011-31833 Filed 12-9-11; 8:45 am]

BILLING CODE 4140-01-P